DEPARTMENT OF HEALTH AND HUMAN SERVICES

Health Resources and Services Administration

Statement of Delegation of Authority

Notice is hereby given that I have delegated to the Administrator, Health Resources and Services Administration (HRSA), with authority to redelegate, authorities vested in the Secretary of Health and Human Services under Title III, of the Public Health Service (PHS) Act, as amended, by the Bioterrorism Preparedness and Response Act of 2002, only insofar as it pertains to the functions assigned to HRSA. The authorities are as follows:

• Sec. 105—Education of Health Care Personnel; Training Regarding Pediatric Issues, section 319F(g) of the PHS Act, as amended.

• Sec. 131(a)—Grants to Improve State, Local, and Hospital Preparedness for and Response to Bioterrorism and other Public Health Emergencies, section 319C; and Partnerships for Community and Hospital Preparedness, section 319C-2 of the PHS Act, as amended.

These delegations shall be exercised under the Department's existing delegation of authority and policy on regulations.

This delegation is effective upon signature. In addition, I hereby affirm and ratify any actions taken by you or other HRSA officials which involved the exercise of this authority prior to the effective date of this delegation.

Dated: October 8, 2003.
Tommy G. Thompson,
Secretary.

[FR Doc. 03-26144 Filed 10-15-03; 8:45 am]

BILLING CODE 4165-15-M